FEDERAL TRADE COMMISSION

Public Workshop: The Mobile Wireless Web, Data Services and Beyond: Emerging Technologies and Consumer Issues

AGENCY: Federal Trade Commission.

ACTION: Notice announcing workshop.

SUMMARY: The Federal Trade Commission (“Commission”) has set December 11-12, 2000 as the dates for a public workshop examining emerging wireless Internet and data technologies and the privacy, security, and consumer protection issues they raise.

DATES: The workshop will be held December 11-12, 2000 in the Commission Meeting Room (432), 600 Pennsylvania Avenue, NW., Washington, DC 20580.

FOR FURTHER INFORMATION CONTACT: For questions about the workshop, contact: Ellen Finn, Division of Financial Practices, Federal Trade Commission, 600 Pennsylvania Avenue, NW., Washington, DC 20580, telephone 202-326-3296, e-mail efinn@ftc.gov; Stacy Feuer, Division of Advertising Practices, Federal Trade Commission, 600 Pennsylvania Avenue, NW., Washington, DC 20580, telephone 202-326-3072, e-mail sfeuer@ftc.gov.

SUPPLEMENTARY INFORMATION:

The Mobile Wireless Web, Data Services and Beyond: Emerging Technologies and Consumer Protection Issues

Workshop Goals

One of the Commission's principal missions is to protect consumers from unfair and deceptive acts or practices. In recent years, the Internet and other new technologies have had a significant effect on this mission and the Commission has held numerous public workshops on issues related to the emerging global electronic marketplace. These workshops provide an opportunity for the Commission and the public to learn about these technologies changes and for the Commission to learn how best to provide guidance to both consumers and businesses. These workshops also provide an opportunity for businesses to learn about the Commission's consumers protection and competition concerns. In the past, the Commission has hosted forums on such topics as online consumer privacy issues, advertising disclosures in new media, on-line dispute resolution mechanisms, and business to business electronic marketplaces.

Mobile wireless Internet and data technologies raise money of the privacy and advertising issues previously considered by the Commission. Accordingly, the goal of the announced workshop is to educate government officials and other interested parties about emerging wireless technologies, and to provide a forum for discussion of the privacy, security, and consumer protection issues raised by these new technologies.

Questions To Be Addressed

(1) Mobile Technology and Business Models

(a) Where is wireless Internet and data technology today and where is it going? What devices are currently available for wireless Web access and data services? What sorts of devices and services are anticipated? How will mobile commerce or “m-commerce” develop?

(b) How do wireless Internet and data services function? What types of relationships will consumers have with wireless equipment makers, carriers, data service providers and others involved in the provision of these services? Will consumers' wireless data services be supported by advertising (as many Internet site are), or will consumers pay for subscriptions (like cable television) or pay fees-per-service accessed?

(2) Privacy and Security

What privacy and security issues do wireless devices raise? For example, how will location information be used (generally and more particularly with respect to advertising) and what are the privacy and security implications of the availability of location information? Is transmission of personal information secure in the wireless medium? As wireless devices converge so that cell phones, personal digital assistants, and electronic wallets may become a single device, how are the risks of identity theft increased and what security measures are possible?

Within this broad topic, the workshop would address existing regulatory structures and existing or emerging self-regulatory initiatives, as well as technological methods of addressing privacy and security concerns.

(3) Disclosures

How can companies make effective disclosures on small screens (both advertising and privacy disclosures)? Particularly as devices move to a combination of voice and text communication, how do traditional concepts like “clear and conspicuous” and “equal prominence” apply? Are there other aspects of this unique medium that will require modification of traditional consumer protection approaches?

By direction of the Commission.
Donald S. Clark,
Secretary.

[FR Doc. 00-29471 Filed 11-16-00; 8:45 am]

BILLING CODE 6750-01-M